DEPARTMENT OF THE INTERIOR

Bureau of Land Management

[LLNM004000 L18300000.XG0000 14XL1109AF]

Notice of Relocation: Consolidation and Change of Address for Oklahoma Field Office-Tulsa and Moore Field Station

AGENCY: Bureau of Land Management, Interior.

ACTION: Notice.

SUMMARY: The Bureau of Land Management, Oklahoma Field Office, located at 7906 East 33rd Street, Suite 101, Tulsa, Oklahoma 74145, and the Moore Field Station, located at 200 Northwest 4th Street, Room 2401, Oklahoma City, Oklahoma 73102, will combine and relocate to 201 Stephenson Parkway, Suite 1200, Norman, Oklahoma 73072.

DATES: The combined offices moved October 20-23, 2016, and were open for business on Monday, October 24, 2016.

FOR FURTHER INFORMATION CONTACT: Paul McGuire, Administrative Officer, at (405) 826-3036, BLM Oklahoma Field Office. Persons who use a telecommunications device for the deaf (TDD) may call the Federal Information Relay Service (FIRS) at 1-800-877-8339 to contact the above individual during normal business hours. The service is available 24 hours a day, 7 days a week, to leave a message or question with the above individual. You will receive a reply during normal business hours.

SUPPLEMENTARY INFORMATION: The BLM will meet its goals of improving overall efficiency and reducing costs by co-locating with the University of Oklahoma, other Federal agencies, and the research community. The main office telephone number will be (405) 579-7100.

Aden L. Seidlitz,
Associate State Director.

[FR Doc. 2016-30530 Filed 12-19-16; 8:45 am]

BILLING CODE 4310-FB-P